GENERAL SERVICES ADMINISTRATION

41 CFR Part 102-36

[FMR Amendment 2009-05; FMR Case 2009-102-2; Docket 2009-0002, Sequence 4]

RIN 3090-AI87

Federal Management Regulation; FMR Case 2009-102-2; Disposition of Excess Personal Property

AGENCY: Office of Governmentwide Policy, General Services Administration (GSA).

ACTION: Final rule.

SUMMARY: The General Services Administration is amending the Federal Management Regulation (FMR) by making a change to its personal property policy. This final rule updates and clarifies language that has caused some confusion with our customers and resulted in unnecessarily prolonged periods to remove property.

DATES: Effective Date: This final rule is effective on August 14, 2009.

FOR FURTHER INFORMATION CONTACT: For clarification of content, contact Mr. Robert Holcombe, Office of Governmentwide Policy, Office of Travel, Transportation, and Asset Management (MT), (202) 501-3828 or e-mail at robert.holcombe@gsa.gov. For information pertaining to status or publication schedules contact the Regulatory Secretariat, 1800 F Street, NW., Room 4041, Washington, DC, 20405, (202) 501-4755. Please cite FMR case 2009-102-2.

SUPPLEMENTARY INFORMATION:

A. Background

A proposed rule was published in the Federal Register on February 23, 2009 (74 FR 14510) to solicit comments on a proposed change to FMR section 102-36.135 (41 CFR 102-36.135). The language used in that section caused confusion with our customers and resulted in unnecessarily prolonged removal periods. The proposed revision would make it clear that the acquiring agency is responsible for scheduling and coordinating the property removal once the acquiring agency receives notification from GSA that they have been allocated the property. No comments were received.

B. Executive Order 12866

This final rule is excepted from the definition of “regulation” or “rule” under Section 3(d)(3) of Executive Order 12866, Regulatory Planning and Review, dated September 30, 1993 and, therefore, was not subject to review under Section 6(b) of that Executive Order.

C. Regulatory Flexibility Act

This final rule was not required to be published in the Federal Register for comment. Therefore, the Regulatory Flexibility Act does not apply. However, a proposed rule was published on February 23, 2009 in order to elicit comments and to provide transparency in the promulgation of federal policies.

D. Paperwork Reduction Act

The Paperwork Reduction Act does not apply because the changes to the FMR do not impose information collection requirements that require the approval of the Office of Management and Budget under 44 U.S.C. 3501, et seq.

E. Small Business Regulatory Enforcement Fairness Act

This final rule is exempt from Congressional review under 5 U.S.C. 801 since it relates solely to agency management and personnel.

List of Subjects in 41 CFR Part 102-36

Government property, property disposal.

Dated: July 15, 2009.
Paul F. Prouty,
Acting Administrator of General Services.

For the reasons set forth in the preamble, GSA amends 41 CFR part 102-36 as set forth below:

PART 102-36—DISPOSITION OF EXCESS PERSONAL PROPERTY

1. The authority citation for 41 CFR part 102-36 continues to read as follows:

Authority: 40 U.S.C. 121(c).

2. Revise § 102-36.135 to read as follows:

§ 102-36.135 How much time do we have to pick up excess personal property that has been approved for transfer?

Normally, you have 15 calendar days from the date of GSA allocation to pick up the excess personal property for transfer, and you are responsible for scheduling and coordinating the property removal with the holding agency. If additional removal time is required, you are responsible for requesting such additional removal time.

[FR Doc. E9-19481 Filed 8-13-09; 8:45 am]

BILLING CODE 6820-14-P